LIBRARY OF CONGRESS

Copyright Royalty Board

37 CFR Parts 350 and 360

[Docket No. 17-CRB-0012-RM]

Procedural Regulations for the Copyright Royalty Board Regarding Electronic Filing of Claims

AGENCY: Copyright Royalty Board, Library of Congress.

ACTION: Final rule.

SUMMARY: The Copyright Royalty Judges are amending regulations governing claims to royalty fees deposited with the Copyright Office under compulsory licenses to reflect implementation of a new electronic filing system and to consolidate cable and satellite rules.

DATES: Effective June 13, 2017.

FOR FURTHER INFORMATION CONTACT: Kimberly Whittle, Attorney Advisor, by telephone at (202) 707-7658 or email at crb@loc.gov.

SUPPLEMENTARY INFORMATION:

I. Introduction

On March 17, 2017, the Copyright Royalty Judges (Judges) published a notice in the Federal Register seeking comments on proposed amendments to regulations relating to an automated system, designated eCRB.¹ The proposed regulations addressed electronic filing of claims to royalty fees deposited with the Copyright Office for compulsory licenses. The Judges received comments from the following interested parties: The Allocation Phase Parties; ² the Joint Sports Claimants (JSC); ³ the MPAA-Represented Program Suppliers (Program Suppliers); ⁴ the Performing Rights Organizations (PROs); ⁵ and Screenrights International (Screenrights).⁶

¹ See 82 FR 14167.

² “The Allocation Phase Parties are Program Suppliers, Joint Sports Claimants, Commercial Television Claimants, Public Broadcasting Service, American Society of Composers, Authors and Publishers, Broadcast Music, Inc., SESAC, Inc., Settling Devotional Claimants, Canadian Claimants Group, and National Public Radio.” Comments of the Allocation Phase Parties at 1 n1.

³ The JSC is comprised of Office of the Commissioner of Baseball, National Football League, National Basketball Association, Women's National Basketball Association, National Hockey League, and the National Collegiate Athletic Association. JSC Comments at 1 n.1.

⁴ The Program Suppliers are comprised of The Motion Picture Association of America, Inc., its member companies and “other producers and/or distributors of syndicated series, movies, specials, and non-team sports broadcast by television stations.” Program Suppliers Comments at 1.

⁵ The PROs consist of the American Society of Composers, Authors and Publishers, Broadcast Music, Inc., and SESAC, Inc.

⁶ “Screenrights International is a division of the Audio-Visual Copyright Society Pty Ltd trading as Screenrights the Australian based collecting society.” Screenrights Comments at 1.

II. Comments on Proposed Rules and Judges' Findings

The Judges address the comments on a section-by-section basis. The Judges will adopt without change those sections upon which no interested party commented.⁷

⁷ The Judges received no comments, apart from technical corrections, on the following sections in the NPRM: §§ 350.5(c)(3), 360.1, 360.2, 360.3, 360.5, 360.20, 360.21, 360.23, 360.24, 360.31, and 360.32. The Judges have incorporated in the final rule all technical corrections to these provisions identified in the comments.

Section 360.4—Form and Content of Claims

Each of the comments the Judges received addressed this section. All of the commenters opposed proposed language that would have required parties filing joint claims to identify a qualifying secondary transmission of a work for each copyright owner listed in a joint claim. See, e.g., Comments of the Allocation Phase Parties at 1-4; JSC Comments at 1; Program Suppliers Comments at 3-4; PROs Comments at 4-6; Screenrights Comments at 1. Two commenters sought clarification that § 360.4(b)(2)(ii) does not require the filer of a joint claim to include a separate statement from each copyright owner confirming the filer's authorization to act on the copyright owner's behalf. See Comments of the Allocation Phase Parties at 6-7; Program Suppliers Comments at 2-3. In addition, the Program Suppliers proposed that the special relief granted to performing rights organizations in § 360.4(b)(2)(i) and (ii) be extended to “collective management organizations” such as AGICOA, EGEDA, and Screenrights. See Program Suppliers Comments at 4-7.⁸

⁸ Several commenters also suggested nonsubstantive, technical corrections to this section. The Judges find all of those suggestions to have merit and have included them in the final rule.

The Allocation Phase Parties described the burden on claimants and filers of requiring identification of a qualifying transmission for a work of each copyright owner listed in a joint claim, both in terms of labor and monetary expense. “For example, the last time one of the Allocation Phase Parties . . . undertook such a task, it expended approximately 300 hours annually to identify secondary transmissions . . . . [F]or many copyright owners' claims it would require merging commercially available and expensive broadcast programming databases with cable carriage data . . . .” Comments of the Allocation Phase Parties at 3. The Allocation Phase Parties also noted that the Copyright Office had considered and ultimately rejected the same requirement in 1994. Id. at 2-3. In the face of unanimous opposition from interested parties, the Copyright Office concluded that “requiring identification of a secondary transmission for each joint claimant would add in some cases a substantial burden and cost to joint claimants without yielding an appreciable return in administrative efficiency.” Id. at 3 (quoting Final Regulations, Copyright Arbitration Royalty Panels, 59 FR 63025-63028 (Dec. 7, 1994)).

Identifying only a single secondary transmission on a joint claim has very little utility for the Judges. The Judges proposed requiring identification of secondary transmissions for each joint claimant at the claims-filing stage in order to improve the efficiency of distribution proceedings by screening out invalid claims at the earliest possible point in the claims distribution process. The Judges must weigh the potential improvement of administrative efficiency against the cost of compliance on some claimants, and the potential for deterring the filing of meritorious claims. On balance, the Judges find that the burden outweighs the benefit and will not include the proposed requirement in the final rule. Moreover, given the extremely limited value of identifying a single secondary transmission on a joint claim, the Judges will eliminate that existing requirement as well.⁹

⁹ In order to maintain consistency for single and joint claimants, the Judges will eliminate the requirement to identify a secondary transmission from both single and joint claims.

Similar considerations apply to § 360.4(b)(2)(ii). The language the Judges proposed was intended to elicit information from joint claimants regarding their authorization to file claims on behalf of each of the copyright owners listed in the claim. Again, the Judges were seeking to improve the efficiency of distribution proceedings by screening out invalid claims at the earliest possible point in the distribution process. The Judges recognize that the proposal would impose additional cost on some claimants, potentially deterring them from filing meritorious claims. Consequently, the Judges will omit the proposed the language concerning authorization from the final rule. The Judges will rely instead on the filer's declaration and certification regarding the filer's authority and the veracity of the claim.

The Program Suppliers have proposed that the Judges extend to collective management organizations (CMOs) the existing language that exempts performing rights organizations from the requirement to identify each of the copyright owners covered by a joint claim. The Program Suppliers argued that “CMOs are distinct from other non-PRO claimants in that they are government-authorized, non-profit entities typically regulated by their native national legislation, and are specifically created to administer audiovisual rights and/or collect royalties on behalf of thousands of rights owners based in their respective countries or regions . . . . Within the context of retransmission royalties, CMOs therefore are similarly situated as PROs.” Program Suppliers Comments at 5-6.

This is a new proposal that has not been reviewed or commented upon by any interested parties (other than the Program Suppliers). The administrative record is limited to a brief discussion in the Program Suppliers Comments. The Judges are not prepared to extend the existing exemption to a potentially broad group of entities on this basis. The final rule will not include the Program Suppliers' proposal.

Section 360.22—Form and Content of Claims

The PROs urged the Judges to revise this provision to permit filers of joint claims to submit a list of joint claimants in electronic form. PROs Comments at 7. The PROs “anticipate[d]”—correctly—that eCRB will accommodate lists of claimants in electronic format, and seek express acknowledgement in the regulation. In addition, the PROs sought language that would permit parties filing joint claims by mail or hand delivery to provide claimant lists on a CD or other electronic format.

Claims filed through eCRB are entirely electronic. eCRB will permit a person filing a joint claim to list up to ten claimants in the webform. For joint claims with more than ten claimants, the filer will be permitted to attach a separate electronic file that lists the claimants. Proposed § 360.4(b)(2)(i) already reflects this eCRB innovation. The Judges will modify proposed § 360.22 to reflect this as well.

In addition, the Judges find the PROs' proposal to permit parties filing joint claims by mail or hand delivery to provide claimant lists on a CD or other electronic format to be reasonable and likely to improve administrative efficiency. The Judges will therefore include this proposal in both the final rule for cable and satellite claims (§ 360.4) and the final rule for DART claims (§ 360.22).

Section 360.30—Amendment of Claims

The Allocation Phase Parties and the Program Suppliers urged the Judges to permit amendment of claims after the claims-filing deadline without requiring the claimant to file a motion with the Judges. See Comments of the Allocation Phase Parties at 4-6; Program Suppliers Comments at 7-8. As proposed, § 360.30 would permit claimants to amend claims prior to the claims filing deadline by filing a Notice of Amendment. In the proposed rule, after the statutory claims filing period claimants would be required to file a motion with the Judges demonstrating good cause and lack of prejudice to other claimants.

The Allocation Phase Parties noted that “[t]he only elements of a claim subject to being amended are those relating to the ‘general statement of the nature of the works’ being claimed and to the example of a secondary transmission of one of the copyright owner's works establishing the basis of the claim.” Comments of the Allocation Phase Parties at 5 (citations and footnote omitted).¹⁰ They argued that “amendments of those portions of a claim should be allowed as of right at any time.” Id. The Program Suppliers pointed out that, as drafted, the regulation would require a claimant to file a motion to fix typographical and other nonsubstantive errors after the claims deadline. Program Suppliers Comments at 7. In addition, they noted that “the Judges typically do not establish docket numbers or official service lists for cable or satellite royalty distribution proceedings until months (or even years) after royalty claims are filed” making it difficult for claimants to file motions with the Judges. Id. at 7-8.

¹⁰ The Allocation Phase Parties also note, correctly, that under the proposal claimants are required to update contact information for the filer and copyright owner(s) and are prohibited from adding additional claimants after the claims filing deadline.

The Allocation Phase Parties' assertion is mistaken: There are other elements of a claim that may be amended. For example, while the proposed regulation would prohibit filers from adding additional claimants to a joint claim, it would allow a filer to strike claimants that have been included in error. Filers might also need to amend a claim to correct an erroneous corporate name or to reflect a corporate acquisition or name change. In addition, the Allocation Phase Parties failed to note those elements of a claim to DART royalties, such as the list and category of interested copyright parties and identification of the subfund in which they claim, that are not addressed by the final sentence of § 360.30.

Nevertheless, the Allocation Phase Parties are correct in pointing out that the regulations should allow certain amendments as of right after the claims filing deadline. In addition, the Program suppliers are correct in pointing out practical difficulties in filing a motion to amend a claim prior to the initiation of a distribution proceeding.¹¹

¹¹ The eCRB system will establish a docket number for distribution proceedings concurrently with the filing of the first claim in each category. Assignment of the docket number alone, however, will not trigger filing Petitions to Participate, which are the source documents for lists of participants requiring notice of proceeding activities.

The final regulation will permit amendment to filed claims prior to the claims filing deadline as of right. It will also permit amendment to filed claims after the claims filing deadline as of right, provided that the amendment is limited to correcting the general description of the nature of the work, fixing typographical or other nonsubstantive errors in other portions of the claim, or striking a claimant that was erroneously included in a joint claim. The Judges will address the procedure for making any other amendments to filed claims in a separate rulemaking at a later date and after further study.

Having considered all comments from interested parties, the Judges adopt as final rules the changes and additions to 37 CFR parts 350 and 360 detailed in this Final Rule.

Final Regulations

List of Subjects

37 CFR Part 350

Administrative practice and procedure, Claims, Copyright, Electronic filing.

37 CFR Part 360

Administrative practice and procedure, Cable royalties, Claims, Copyright, Electronic filing, Satellite royalties.

For the reasons set forth in the preamble, we amend parts 350 and 360 of Title 37 of the Code of Federal Regulations as follows:

PART 350—GENERAL ADMINISTRATIVE PROVISIONS

1. The authority citation for part 350 continues to read as follows:

Authority: 17 U.S.C. 803.

2. Amend § 350.5 by adding paragraph (c)(3) to read as follows:

§ 350.5 Electronic filing system (eCRB).

* * * * *

(c) * * *

(3) Claimants. Any person desiring to file a claim with the Copyright Royalty Board for copyright royalties may obtain an eCRB password for the limited purpose of filing claims by completing the application form available on the CRB Web site.

* * * * *

3. Revise part 360 to read as follows:

PART 360—FILING OF CLAIMS TO ROYALTY FEES COLLECTED UNDER COMPULSORY LICENSE

Subpart A—Cable and Satellite Claims
Sec.
360.1 General.
360.2 Definitions.
360.3 Time of filing.
360.4 Form and content of claims.
360.5 Copies of claims.
Subpart B—Digital Audio Recording Devices and Media (DART) Royalty Claims
360.20 General.
360.21 Time of filing.
360.22 Form and content of claims.
360.23 Copies of claims.
360.24 Content of notices regarding independent administrators.
Subpart C—Rules of General Application
360.30 Amendment of claims.
360.31 Withdrawal of claims.
360.32 Reinstatement of previously withdrawn claims.

Authority: 17 U.S.C. 801, 803, 805.

Subpart A also issued under 17 U.S.C. 111(d)(4) and 119(b)(4).

Subpart B also issued under 17 U.S.C. 1007(a)(1).

Subpart C also issued under 17 U.S.C. 111(d)(4), 119(b)(4) and 1007(a)(1).

Subpart A—Cable and Satellite Claims

§ 360.1 General.

This subpart prescribes procedures under 17 U.S.C. 111(d)(4)(A) and 17 U.S.C. 119(b)(4) whereby parties claiming entitlement to cable compulsory license royalty fees or satellite compulsory license royalty fees must file claims with the Copyright Royalty Board.

§ 360.2 Definitions.

For purposes of this subpart, the following definitions will apply:

Cable compulsory license royalty fees means royalty fees deposited with the Copyright Office pursuant to 17 U.S.C. 111.

Performing rights society has the meaning set forth in 17 U.S.C. 101.

Satellite compulsory license royalty fees means royalty fees deposited with the Copyright Office pursuant to 17 U.S.C. 119.

§ 360.3 Time of filing.

(a) During the month of July each year, any party claiming to be entitled to cable compulsory license royalty fees or satellite compulsory license royalty fees for secondary transmissions during the preceding calendar year must file a claim or claims with the Copyright Royalty Board. No party will receive royalty fees for secondary transmissions during the specified period unless the party has filed a timely claim to the fees. Claimants may file claims jointly or as a single claim. Claimants must file separate claims for cable compulsory license royalty fees and satellite compulsory license royalty fees. The Copyright Royalty Board will reject any claim that purports to be for both cable and satellite royalty fees.

(b) Claims filed with the Copyright Royalty Board will be considered timely filed only if they are filed online through eCRB or by mail or hand delivery in accordance with § 301.2 during the month of July, as determined in accordance with § 350.7.

(c) Notwithstanding paragraphs (a) and (b) of this section, in any year in which July 31 falls on a Saturday, Sunday, holiday, or other nonbusiness day within the District of Columbia or the Federal Government, the due date for claims to cable or satellite compulsory license royalty fees will be the first business day in August.

(d) In the event the Copyright Royalty Board does not receive a claim that was properly addressed and mailed, the filer may prove proper filing of the claim if it was sent by certified mail return receipt requested, and the filer produces a receipt bearing a July date stamp of the United States Postal Service. The Copyright Royalty Board will accept no other offer of proof in lieu of the return receipt.

(e) For claims filed electronically through eCRB, the Copyright Royalty Board will accept the confirmation email generated by eCRB as proof of filing. The Copyright Royalty Board will accept no other offer of proof regarding claims filed electronically through eCRB.

§ 360.4 Form and content of claims.

(a) Forms. (1) Each filer must use the form prescribed by the Copyright Royalty Board to claim cable compulsory license royalty fees or satellite compulsory license royalty fees and must provide all information required by that form and its accompanying instructions.

(2) Copies of claim forms are available:

(i) On the Copyright Royalty Board Web site at http://www.crb.gov/claims/ during the month of July for claims filed with the Copyright Royalty Board by mail or by hand delivery;

(ii) On the Copyright Royalty Board Web site at http://www.crb.gov/cable/ (for cable claims) or http://www.crb.gov/satellite/ (for satellite claims) during the month of July for claims filed online through eCRB; and

(iii) Upon request to the Copyright Royalty Board by mail at the address set forth in § 301.2(a), by email at the address set forth in § 301.2(d), or by telephone at (202) 707-7658.

(b) Content—(1) Single claim. A claim filed on behalf of a single copyright owner of a work or works secondarily transmitted by a cable system or satellite carrier must include the following information:

(i) The full legal name, address, and email address of the copyright owner entitled to claim the royalty fees.

(ii) A statement of the nature of the copyright owner's work(s) that has (have) been secondarily transmitted by a cable system or satellite carrier establishing a basis for the claim.

(iii) The name, telephone number, full mailing address, and email address of the person or entity filing the single claim. The information contained in a filer's eCRB profile shall fulfill this requirement for claims submitted through eCRB.

(iv) The name, telephone number, and email address of the person whom the Copyright Royalty Board can contact regarding the claim.

(v) An original signature of the copyright owner or of a duly authorized representative of the copyright owner, except for claims filed online through eCRB.

(vi) A declaration of authority to file the claim and a certification of the veracity of the information contained in the claim and the good faith of the person signing in providing the information. Penalties for fraud and false statements are provided under 18 U.S.C. 1001 et seq.

(2) Joint claim. A claim filed on behalf of more than one copyright owner whose works have been secondarily transmitted by a cable system or satellite carrier must include the following information:

(i) With the exception of joint claims filed by a performing rights society on behalf of its members, a list including the full legal name, address, and email address of each copyright owner whose claim(s) are included in the joint claim. Claims filed online through eCRB must include an Excel spreadsheet containing the information if the number of joint claimants is in excess of ten. For claims filed by mail or hand delivery, the list containing the name of each claimant to the joint claim may be provided in a single Excel spreadsheet on CD, DVD, or other electronic storage medium.

(ii) A general statement of the nature of the copyright owners' works that have been secondarily transmitted by a cable system or satellite carrier establishing a basis for the joint claim.

(iii) The name, telephone number, full mailing address, and email address of the person or entity filing the joint claim. The information contained in a filer's eCRB profile shall fulfill this requirement for claims submitted through eCRB.

(iv) The name, telephone number, and email address of a person whom the Copyright Royalty Board can contact regarding the claim.

(v) Original signatures of the copyright owners identified on the joint claim or of a duly authorized representative or representatives of the copyright owners, except for claims filed online through eCRB.

(vi) A declaration of authority to file the claim and a certification of the veracity of the information contained in the claim and the good faith of the person signing in providing the information. Penalties for fraud and false statements are provided under 18 U.S.C. 1001 et seq.

(c) Changes. In the event the legal name and/or address of the copyright owner entitled to royalties or the person or entity filing the claim changes after the filing of the claim, the filer or the copyright owner shall notify the Copyright Royalty Board of the change. Any other proposed changes or amendments must be submitted in accordance with 37 CFR 360.30. If the good faith efforts of the Copyright Royalty Board to contact the copyright owner or filer are frustrated because of outdated or otherwise inaccurate contact information, the claim may be subject to dismissal. A person or entity that filed a claim online through eCRB must notify the Copyright Royalty Board of any change of name or address by updating the eCRB profile for that person or entity through eCRB as required by 37 CFR 350.5(g).

§ 360.5 Copies of claims.

Following the instructions outlined in 37 CFR 301.2, a claimant must file an original and one copy of the claim to cable or satellite compulsory license royalty fees at the address(es) listed for each claim submitted to the Copyright Royalty Board by hand delivery or by U.S. mail.

Subpart B—Digital Audio Recording Devices and Media (DART) Royalty Claims

§ 360.20 General.

This subpart prescribes procedures whereby an interested copyright party, as defined in 17 U.S.C. 1001(7), claiming to be entitled to royalty payments made for the importation and distribution in the United States, or the manufacture and distribution in the United States, of digital audio recording devices and media (DART) pursuant to 17 U.S.C. 1006, shall file claims with the Copyright Royalty Board.

§ 360.21 Time of filing.

(a) General. During January and February of each year, every interested copyright party claiming to be entitled to DART royalty payments made for quarterly periods ending during the previous calendar year must file a claim with the Copyright Royalty Board. Claimants may file claims jointly or as a single claim.

(b) Consequences of an untimely filing. No royalty payments for the previous calendar year will be distributed to any interested copyright party who has not filed a claim to those royalty payments during January or February of the following calendar year.

(c) Authorization. Any organization or association acting as a common agent for collection and distribution of DART royalty fees must obtain from its members or affiliates separate, specific, and written authorization, signed by members, affiliates, or their representatives, apart from their standard affiliation agreements, for purposes of royalties claim filing and fee distribution relating to the DART Musical Works Fund or Sound Recordings Fund. The written authorization, however, will not be required for claimants to the Musical Works Fund when either:

(1) The agreement between the organization or association and its members or affiliates specifically authorizes the entity to represent its members or affiliates as a common agent before the Copyright Royalty Board in royalty claims filing and fee distribution proceedings; or

(2) The agreement between the organization or association and its members or affiliates, as specified in a court order issued by a court with authority to interpret the terms of the contract, authorizes the entity to represent its members or affiliates as a common agent before the Copyright Royalty Board in royalty claims filing and fee distribution proceedings.

§ 360.22 Form and content of claims.

(a) Forms. (1) Each claim to DART royalty payments must be furnished on a form prescribed by the Copyright Royalty Board and must contain the information required by that form and its accompanying instructions.

(2) Copies of DART claim forms are available:

(i) On the Copyright Royalty Board's Web site at http://www.crb.gov/claims for claims filed with the Copyright Royalty Board by mail or by hand delivery;

(ii) On the Copyright Royalty Board's Web site at http://www.crb.gov/dart/ during the months of January and February for claims filed online through eCRB; and

(iii) Upon request to the Copyright Royalty Board, by mail at the address set forth in § 301.2(a), by email at the address set forth in § 301.2(d), or by telephone at (202) 707-7658.

(b) Content. Claims filed by interested copyright parties for DART royalty payments must include the following information:

(1) The full legal name and address of the person or entity claiming royalty payments.

(2) The name, telephone number, full mailing address, and email address of the person or entity filing the claim. The information contained in a filer's eCRB profile will fulfill this requirement for claims submitted through eCRB.

(3) The name, telephone number, and email address of a person whom the Copyright Royalty Board can contact regarding the claim.

(4) A statement as to how the claimant fits within the definition of interested copyright party.

(5) A statement as to whether the claim is being made against the Sound Recordings Fund or the Musical Works Fund, as set forth in 17 U.S.C. 1006(b), and as to which Subfund the claim is made. The Subfunds for the Sound Recordings Fund are the Copyright Owners Subfund and the Featured Recording Artists Subfund, The Subfunds for the Musical Works Fund are the Music Publishers Subfund and the Writers Subfund, as described in 17 U.S.C. 1006(b)(1) through (2).

(6) Identification, establishing a basis for the claim, of at least one musical work or sound recording embodied in a digital musical recording or an analog musical recording lawfully made under title 17 of the United States Code that has been distributed (as that term is defined in 17 U.S.C. 1001(6)), and that, during the period to which the royalty payments claimed pertain, has been:

(i) Distributed (as that term is defined in 17 U.S.C. 1001(6)) in the form of digital musical recordings or analog musical recordings; or

(ii) Disseminated to the public in transmissions.

(7) A declaration of the authority to file the claim and of the veracity of the information contained in the claim and the good faith of the person signing in providing the information. Penalties for fraud and false statements are provided under 18 U.S.C. 1001 et seq.

(c) Signature. Claims must bear the original signature of the claimant or of a duly authorized representative of the claimant, except for claims filed online through eCRB.

(d) Changes. In the event that the legal name and/or address of the claimant changes after the filing of the claim, the claimant must notify the Copyright Royalty Board of the change. Any other proposed changes or amendments must be submitted in accordance with 37 CFR 360.30. If the good faith efforts of the Copyright Royalty Board to contact the claimant are frustrated because of failure to notify the Copyright Royalty Board of a name and/or address change, the claim may be subject to dismissal. A person or entity that filed a claim online through eCRB must notify the Copyright Royalty Board of any change of name or address by updating that person or entity's eCRB profile as required by § 350.5(g).

(e) List of claimants. If the claim is a joint claim, it must include the name of each claimant participating in the joint claim. Filers submitting joint claims online through eCRB on behalf of ten or fewer claimants, must list claimant information directly on the filed joint claim. Filers submitting joint claims on behalf of more than ten claimants must include an Excel spreadsheet listing the full legal name, address, and email address of each claimant included in the joint claim. For joint claims filed by mail or hand delivery, the filer may submit the list containing the name of each claimant included in the joint claim in a single Excel spreadsheet on CD, DVD, or other electronic storage medium.

(f) Subfunds. If an interested copyright party intends to file claims against more than one Subfund, each Subfund claim must be filed separately with the Copyright Royalty Board. The Copyright Royalty Board will reject any claim that purports to claim funds from more than one Subfund.

§ 360.23 Copies of claims.

Following the instructions outlined in 37 CFR 301.2, a claimant must file an original and one copy of the claim to DART royalty fees at the address(es) listed for each claim submitted to the Copyright Royalty Board by hand delivery or by U.S. mail.

§ 360.24 Content of notices regarding independent administrators.

(a) The independent administrator jointly appointed by the interested copyright parties, as defined in 17 U.S.C. 1001(7)(A), and the American Federation of Musicians (or any successor entity) for the purpose of managing and ultimately distributing royalty payments to nonfeatured musicians as defined in 17 U.S.C. 1006(b)(1), must file a notice informing the Copyright Royalty Board of his/her appointment.

(b) The independent administrator jointly appointed by the interested copyright parties, as defined in 17 U.S.C. 1001(7)(A) and the American Federation of Television and Radio Artists (or any successor entity) for the purpose of managing and ultimately distributing royalty payments to nonfeatured vocalists as defined in 17 U.S.C. 1006(b)(1), must file a notice informing the Copyright Royalty Board of his/her appointment.

(c) A notice filed under paragraph (a) or (b) of this section must include the full name, telephone number, mailing address, and email address of the place of business of the independent administrator.

(d) The independent administrator must file the notices identified in paragraphs (a) and (b) of this section through eCRB no later than March 31 of each year, commencing with March 31, 2018.

Subpart C—Rules of General Application

§ 360.30 Amendment of claims.

Any claimant may amend a filed claim as of right by filing a Notice of Amendment during the statutory period for filing annual claims. After the expiration of the time for filing claims, a claimant may amend a filed claim as of right to correct the general description of the nature of the claimant's work(s), to fix typographical or other nonsubstantive errors in other portions of the claim, or to strike a claimant or interested copyright party that was erroneously included in a joint claim. No filer may amend a filed claim to add additional claimants or interested copyright parties after the expiration of the time for filing claims.

§ 360.31 Withdrawal of claims.

Any claimant may withdraw its claim for any royalty year as of right by filing a Notice of Withdrawal of Claim(s). If a single claimant filed a Petition to Participate in a proceeding, withdrawal of the claim shall serve to dismiss the Petition to Participate. If the claimant withdrawing a claim was included on the Petition to Participate of another entity, withdrawal of the claim shall not affect the Petition to Participate as to other claims listed thereon.

§ 360.32 Reinstatement of previously withdrawn claims.

Once a claimant has withdrawn a claim, that claim may be reinstated only by order of the Copyright Royalty Judges, on motion showing good cause and lack of prejudice to other claimants to the applicable year's royalty funds.

Dated: May 26, 2017.
Suzanne M. Barnett,
Chief Copyright Royalty Judge.

Approved by:

Carla D. Hayden,
Librarian of Congress.

[FR Doc. 2017-12114 Filed 6-12-17; 8:45 am]

BILLING CODE 1410-72-P